NUCLEAR REGULATORY COMMISSION

[Docket No. 50-607; NRC-2022-0114]

Regents of the University of California, University of California-Davis McClellan Nuclear Research Center, Training, Research, Isotopes, General Atomics Reactor

AGENCY: Nuclear Regulatory Commission.

ACTION: License renewal; issuance.

SUMMARY: The U.S. Nuclear Regulatory Commission (NRC) has issued a renewal for Facility Operating License No. R-130, held by the Regents of the University of California (the licensee), for the continued operation of the University of California-Davis McClellan Nuclear Research Center (UCD, MNRC) Training, Research, Isotopes, General Atomics (TRIGA) reactor (the reactor, facility), for an additional 20 years from the date of issuance. The facility is located in the city of North Highlands, Sacramento County, California. In connection with the renewed license, the licensee is authorized to operate the reactor at a maximum licensed power level of 1.0 megawatt-thermal (MWt).

DATES: Renewed Facility Operating License No. R-130 was issued on November 21, 2022, and is effective as of the date of issuance.

ADDRESSES: Please refer to Docket ID NRC-2022-0114 when contacting the NRC about the availability of information regarding this document. You may obtain publicly available information related to this document using any of the following methods:

• Federal Rulemaking Website: Go to https://www.regulations.gov and search for Docket ID NRC-2022-0114. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, the ADAMS accession numbers are provided in a table in the “Availability of Documents” section of this notice.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Geoffrey Wertz, Office of Nuclear Reactor Regulation, U.S. Nuclear Regulatory Commission, Washington, DC 20555-0001; telephone: 301-415-0893; email: Geoffrey.Wertz@nrc.gov.

SUPPLEMENTARY INFORMATION:

I. Discussion

The NRC has issued a renewal for Facility Operating License No. R-130, held by Regents of the University of California, which authorizes operation of the UCD MNRC TRIGA reactor. The UCD MNRC is a hexagonal-grid, natural-convection-cooled TRIGA-type reactor with a graphite reflector. The renewed license authorizes the licensee to operate the UCD MNRC at a steady-state power level up to a maximum of 1.0 MWt. Renewed Facility Operating License No. R-130 will expire 20 years from its date of issuance.

The renewed facility operating license complies with the standards and requirements of the Atomic Energy Act of 1954, as amended (the Act), and the Commission's rules and regulations set forth in chapter I of title 10 of the Code of Federal Regulations. The Commission has made appropriate findings as required by the Act and the Commission's regulations, and sets forth those findings in the renewed facility operating license. The agency afforded an opportunity for hearing in the Notice of Opportunity to Request a Hearing published in the Federal Register on March 9, 2022 (87 FR 13334). The NRC received no requests for a hearing following the notice.

The NRC staff prepared the Safety Evaluation Report—Renewal of the Facility Operating License for the University of California-Davis McClellan Nuclear Research Center TRIGA Research Reactor, License No. R-130, Docket No. 50-607 which concluded that the licensee can continue to operate the facility without endangering the health and safety of the public. The NRC staff also prepared an environmental assessment and finding of no significant impact regarding the renewal of the facility operating license, published in the Federal Register on October 20, 2022 (87 FR 63820), and concluded that renewal of the facility operating license will not have a significant impact on the quality of the human environment.

II. Availability of Documents

Documents related to this action, including the license renewal application and other supporting documentation, and the safety evaluation report prepared by the NRC staff for the license renewal, are available to interested persons as indicated.

Document description | ADAMS accession No.
NRC Safety Evaluation Report—Renewal of the Facility Operating License for the University of California-Davis McClellan Nuclear Research Center TRIGA Research Reactor, dated November 21, 2022 | ML22214B831.
University of California, Davis McClellan Nuclear Research Center—Renewal of Facility Operating License No. R-130, Regents of the University of California, McClellan Nuclear Research Center Training, Research, Isotope, General Atomics, dated June 11, 2018 | ML18179A501.
University of California, Davis McClellan Nuclear Research Center—Requested Changes to Facility License Renewal Application, dated May 10, 2019 | ML19132A147.
University of California, Davis McClellan Nuclear Research Center—Expected Submission Date of 1.0 MW Steady-State Power Level Final Safety Analysis Report, dated June 14, 2019 | ML19197A260.
University of California, Davis McClellan Nuclear Research Center—Updated UCD/MNRC [McClellan Nuclear Research Center] License (R-130) Renewal Application Package Docket Number 50-607, dated July 6, 2020 | ML20188A368.
University of California, Davis McClellan Nuclear Research Center—University of California at Davis License Renewal Application Updated Safety Analysis Report (redacted), dated July 6, 2020 | ML20238B984.
University of California, Davis McClellan Nuclear Research Center—University of California Davis McClellan Nuclear Research Center Financial Qualification Report, dated June 10, 2020 | ML20188A370.
University of California, Davis McClellan Nuclear Research Center—University of California at Davis License Renewal Application Environmental Report (redacted), dated July 6, 2020 | ML20238B993.
University of California Davis, McClellan Nuclear Research Center—UCD/MNRC-0004-DOC-14, Technical Specifications for the University of California—Davis McClellan Nuclear Radiation Center (UCD/MNRC), dated June 10, 2020 | ML20188A371.
University of California, Davis McClellan Nuclear Research Center—UCD/MNRC-0009-DOC-04, University of California—Davis/Mcclellan Nuclear Radiation Center Selection and Training Plan for Reactor Personnel, dated January 12, 2000 | ML20188A374.
University of California, Davis McClellan Nuclear Research Center—University of California at Davis Emergency Plan, dated June 21, 2018 (redacted). | ML20238B990.
Department of the Air Force, Memorandum for U.S. Nuclear Regulatory Commission, RE: USAF request to convey the McClellan Nuclear Research Center to the Regents of the University of California at Davis, dated April 13, 1999 | ML20205Q191.
University of California, Davis McClellan Nuclear Research Center—University of California at Davis License Renewal Application, Supplemental Information from the NRC staff audit, dated September 22, 2021 | ML21265A540 (Package).
University of California, Davis McClellan Nuclear Research Center—UC Davis MNRC Submission of Technical Specifications in Support of License Renewal Applications, dated June 3, 2022 | ML22154A543.
University of California, Davis McClellan Nuclear Research Center—UC Davis UCD/MNRC Response to NRC Staff Request for Additional Information Regarding Licensing Renewal Application Letter Issued November 30, 2021, dated December 17, 2021 | ML21351A317.
University of California, Davis McClellan Nuclear Research Center—50.54P Submittal of the UCD/MNRC Physical Security Plan for University of California, Davis McClellan Nuclear Research Center (UCD/MNRC), Docket No. 50-607, Facility Operating License No. R-130, dated January 11, 2022 | ML22014A127.
University of California, Davis McClellan Nuclear Research Center—University of California-Davis, McClellan Nuclear Research Center Reactor, Selection and Training Plan for Reactor Personnel, Document No. UCD/MNRC-0009-DOC-05, September 2021, dated September 22, 2021 | ML21269A001.
University of California, Davis McClellan Nuclear Research Center—UC Davis MNRC Response to NRC Staff Request for Additional Information Regarding Licensing Renewal Application Letter Issued February 8, 2022, dated March 30, 2022 | ML22089A158.
University of California, Davis McClellan Nuclear Research Center—Supplemental Information, UC Davis MNRC Submission of Technical Specification in Support of License Renewal Application, dated June 21, 2022 | ML22172A197 (Package).
University of California, Davis McClellan Nuclear Research Center—Response to NRC Request for Additional Information Letter Dated June 3 2022 Regarding Licensing Renewal Application for the University of California-Davis/McClellan Nuclear Research Center, dated June 22, 2022 | ML22173A201 (Package).
University of California, Davis McClellan Nuclear Research Center—Response to NRC Request for Additional Information Letter Dated June 24, 2022, Regarding Licensing Renewal Application for the University of California-Davis/McClellan Nuclear Research Center, dated June 30, 2022 | ML22181B082.

Dated: December 5, 2022.
For the Nuclear Regulatory Commission.
Joshua M. Borromeo,
Chief, Non-Power Production and Utilization Facility Licensing Branch, Division of Advanced Reactors and Non-Power Production and Utilization Facilities, Office of Nuclear Reactor Regulation.

[FR Doc. 2022-26665 Filed 12-7-22; 8:45 am]

BILLING CODE 7590-01-P